FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 012130.

Title: Maersk Line/HLAG Latin America Slot Exchange Agreement.

Parties: A.P. Moller-Maersk A/S and Hapag-Lloyd AG.

Filing Parties: Wayne Rohde, esq.; Cozen O'Connor; 1627 I Street, NW.; Suite 1100; Washington, DC 20006.

Synopsis: The agreement would authorize the parties to exchange slots on their respective services in the trade between U.S. Gulf Coast and Brazil, Colombia, Jamaica, Panama, and Trinidad-Tobago.

By Order of the Federal Maritime Commission.
Dated: June 17, 2011.
Rachel E. Dickon,
Assistant Secretary.

[FR Doc. 2011-15622 Filed 6-21-11; 8:45 am]

BILLING CODE 6730-01-P